DEPARTMENT OF THE INTERIOR

National Park Service

[2280-665]

National Register of Historic Places; Notification of Pending Nominations and Related Actions

Nominations for the following properties being considered for listing or related actions in the National Register were received by the National Park Service before December 4, 2010. Pursuant to sections 60.13 or 60.15 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington DC 20005; or by fax, 202-371-6447. Written or faxed comments should be submitted by January 19, 2011.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

KANSAS

Cowley County

St. John's Lutheran College—Baden Hall, Seventh Ave and College St, Winfield, 10001138

Jefferson County

Sunnyside School, (Public Schools of Kansas MPS) 1121 Republic Rd., Jefferson, 10001139

Marion County

Florence Opera House, (Theaters and Opera Houses of Kansas MPS) SW Corner of 5th and Main, Florence, 10001142

Norton County

Norton Downtown Historic District, Generally bounded by E Lincoln St., S 1st St., E Penn St, and S Norton Ave., Norton, 10001144

Phillips County

Hoff School District No. 42, (Public Schools of Kansas MPS) Near Intersection of E Union Rd and E 1300 Rd., Kirwin, 10001140

Sedgwick County

Kellogg Elementary School, (Public Schools of Kansas MPS) 1220 E Kellogg Dr., Wichita, 10001141

Sunnyside School, (Public Schools of Kansas MPS) 3003 E Kellog, Wichita, 10001143

Shawnee County

North Topeka Baptist Church, 123 NW Gordon, Topeka, 10001137

MISSOURI

Jefferson County

Stonebrook, 3511 Stonebrook Forest, Antonia, 10001130

NEW JERSEY

Monmouth County

Cooke, Dr. Robert W., Medical Office, 67 McCampbell Rd., Holmdel, 10001145

Morris County

Willow Hall, 330 Speedwell Ave., Morristown Town, 10001146

MISSOURI

Kingman County

Windsor Hall Apartments, (Working Class Hotels at 19th and Main Streets, Kansas City, Missouri MPS) 3420 Locust St., Kansas City, 10001129

NEW YORK

Saratoga County

Jonesville Store, 989 Main St., Jonesville, 10001136

Rexford, Cyrus, House, 1643 Route 146, Rexford, 10001135

Westchester County

Rye Meeting House, 624 Milton Rd., Rye, 10001134

Spanish American War Monument to the 71st Infantry Regiment, Jackson Ave., Hastings-on-Hudson, 10001133

NORTH CAROLINA

Buncombe County

Dougherty Heights Historic District, Church St., Connolly St., and N Dougherty St., Laurel Circle, Prospect St., and New Bern Ave., Black Mountain, 10001132

Halifax County

Halifax Historic District, Bounded by St. David, Montfort, Pittsylvania, Prussia, Church, Wilcox, Granville, Ferguson Sts, and HWY 301, Halifax, 10001128

WASHINGTON

Grays Harbor County

American Veterans Building—Hoquiam, 307 7th St., Hoquiam, 10001131

OTHER ACTIONS: Request has been made for the REMOVAL of the following resources.

FLORIDA

Miami-Dade County

Hequembourg House, 851 Hunting Lodge Dr., Miami Springs, 85003468

PENNSYLVANIA

Philadelphia County

Jayne Estate, 2-16 Vine St., Philadelphia, 87000648

Steppacher Building, 146-150 N 13th St., Philadelphia, 04000193

Gilbert Building, 1315-1329 Cherry St., Philadelphia, 86001688

[FR Doc. 2010-33147 Filed 1-3-11; 8:45 am]

BILLING CODE 4312-51-P